DEPARTMENT OF ENERGY

Proposed Subsequent Arrangement

AGENCY: Office of Nonproliferation and International Security, National Nuclear Security Administration, Department of Energy.

ACTION: Proposed subsequent arrangement.

SUMMARY: This notice is being issued under the authority of section 131a. of the Atomic Energy Act of 1954, as amended. The Department is providing notice of a proposed subsequent arrangement under paragraph 2 of Article 5 of the Agreement for Cooperation Between the Government of the United States of America and the Government of Japan Concerning Peaceful Uses of Nuclear Energy.

DATES: This subsequent arrangement will take effect no sooner than June 9, 2011.

FOR FURTHER INFORMATION CONTACT: Mr. Sean Oehlbert, Office of Nonproliferation and International Security, National Nuclear Security Administration, Department of Energy. Telephone: 202-586-3806 or e-mail: Sean.Oehlbert@nnsa.doe.gov.

SUPPLEMENTARY INFORMATION: This subsequent arrangement concerns the alteration in form or content of 28.276 kg (24.541 ekg) of U.S.-origin highly enriched uranium (HEU) (26.342 kg U-235) and 0.0048 g of plutonium contained in three HEU driver fuels that have been irradiated in the YAYOI nuclear research reactor at the University of Tokyo in Tokai-mura, Japan. The University of Tokyo will off-load three HEU driver fuels from the core of YAYOI to be cut and de-cladded in the reactor room into approximately 140 pieces, each cut piece weighing approximately 200 g. The HEU will be converted to uranium oxide and downblended to approximately 18% at the Japan Atomic Energy Agency (JAEA) Plutonium Fuel Fabrication Facility, and then will be temporarily stored at the JAEA Tokai Plutonium Fuel Production Facility. The downblended HEU is planned for use as fuel for the JAEA experimental fast reactor JOYO. The alteration in form of the HEU will start in Japanese fiscal year 2012 and will continue for approximately one year.

In accordance with section 131a. of the Atomic Energy Act of 1954, as amended, it has been determined that this subsequent arrangement concerning the storage or disposition of irradiated fuel elements will not be inimical to the common defense and security.

Dated: May 11, 2011.
For the Department of Energy.
Anne M. Harrington,
Deputy Administrator, Defense Nuclear Nonproliferation.

[FR Doc. 2011-12919 Filed 5-24-11; 8:45 am]

BILLING CODE 6450-01-P